ENVIRONMENTAL PROTECTION AGENCY

[FRL-7429-1]

Report to Congress on the Impacts and Control of Combined Sewer Overflows and Sanitary Sewer Overflows; Availability of Public Health Experts Workshop Summary (EPA 833-R-02-002)

AGENCY: Environmental Protection Agency (EPA).

ACTION: Notice of availability.

SUMMARY: Pub. L. 106-554 required EPA to provide to Congress a report on the impacts and control of combined sewer overflows (CSOs) and sanitary sewer overflows (SSOs). In evaluating the extent of human health impacts caused by municipal CSOs and SSOs, EPA invited a group of public health experts to participate in a facilitated discussion of this issue on August 14 and 15, 2003, in Arlington, Virginia. EPA has published a summary of this meeting under publication number EPA 833-R-02-002.

ADDRESSES: To obtain paper copies of the summary, contact Kevin DeBell, EPA Office of Wastewater Management, 1200 Pennsylvania Ave., NW., Mail Code 4203M, Washington, DC 20460; telephone (202) 564-0040; e-mail debell.kevin@epa.gov; fax (202) 564-6392. To obtain an electronic copy of the summary, visit EPA's National Pollutant Discharge Elimination System Web site at http://www.epa.gov/npdes/.

FOR FURTHER INFORMATION CONTACT: Kevin DeBell, EPA Office of Wastewater Management, telephone (202) 564-0040, e-mail debell.kevin@epa.gov, fax (202) 564-6392.

SUPPLEMENTARY INFORMATION: The Consolidated Appropriations Act for Fiscal Year 2001, Pub. L. 106-554 (also referred to as the “Wet Weather Water Quality Act of 2000”), required EPA to provide two Reports to Congress. The first report, “Implementation and Enforcement of the Combined Sewer Overflow Control Policy (EPA 833-R-01-003),” was delivered on January 29, 2002. The second report, due to Congress on December 15, 2003, must summarize:

(A) The extent of the human health and environmental impacts caused by municipal CSOs and SSOs, including the location of discharges causing such impacts, the volume of pollutants discharged, and the constituents discharged;

(B) The resources spent by municipalities to address these impacts; and

(C) An evaluation of the technologies used by municipalities to address these impacts.

In assessing the human health impact of CSOs and SSOs, initial research revealed that relatively little data were available. Factors complicating data collection in this area include public perception of reporting overflows in recreational areas; difficulty in separating sewer overflow loadings of pathogens from other sources; multiple pathways for illness; underreporting of waterborne illnesses; and a lack of comprehensive tracking for such illnesses.

In response to these challenges, EPA held a Public Health Impacts Experts Workshop on August 14 and 15, 2002. A group of nine external and EPA experts in public health, epidemiology, and wastewater treatment attended the workshop. Observers included representatives of stakeholder organizations and EPA personnel. The workshop intended to elucidate issues associated with sewer overflow health impacts; to review and supplement data sources; and to critique the proposed methodology for this effort. The workshop solicited individual opinions and provided a forum for information exchange.

The summary of this workshop includes background information, remarks of the presenters and participants, summaries of discussion sessions, an attendee list, an agenda, and additional information.

(Authority: Division B, Title I, Sec. 112, Pub. L. 106-554, 114 Stat. 2763A-224.)

Linda Boornazian,
Director, Water Permits Division, Office of Wastewater Management.

[FR Doc. 02-32566 Filed 12-24-02; 8:45 am]

BILLING CODE 6561-12-P